DEPARTMENT OF THE INTERIOR

National Park Service

[N6368; NPS-WASO-NAGPRA-NPS0040634; PPWOCRADN0-PCU00RP14.R50000]

Notice of Inventory Completion: Heard Museum, Phoenix, AZ

AGENCY: National Park Service, Interior.

ACTION: Notice.

SUMMARY: In accordance with the Native American Graves Protection and Repatriation Act (NAGPRA), the Heard Museum has completed an inventory of human remains and associated funerary objects and has determined that there is a cultural affiliation between the human remains and associated funerary objects and Indian Tribes or Native Hawaiian organizations in this notice.

DATES: Repatriation of the human remains and associated funerary objects in this notice may occur on or after August 29, 2025.

ADDRESSES: Send written requests for repatriation of the human remains and associated funerary objects in this notice to David Roche, Heard Museum, 2301 N Central Avenue, Phoenix, AZ 85004, email director@heard.org.

SUPPLEMENTARY INFORMATION: This notice is published as part of the National Park Service's administrative responsibilities under NAGPRA. The determinations in this notice are the sole responsibility of the Heard Museum, and additional information on the determinations in this notice, including the results of consultation, can be found in its inventory or related records. The National Park Service is not responsible for the determinations in this notice.

Abstract of Information Available

Human remains representing, at least, three individuals have been identified. The one associated funerary object is a rectangular gray stone. Circumstances and date of acquisition unknown. NA-MIS-PR-T-2: A blue shoe box containing the minimum three individuals and one associated gray stone was located and subsequently accessioned during a full collections inventory in 1991. No information was located in the original Heard catalogue. Prior consultation in 1995 and 2002 did not identify cultural affiliation for the inhumation. Information gathered from the 2002 consultation suggested a geographic location of the Plains in an area with water. Exposure to hazardous substances is unlikely.

Human remains representing, at least, one individual has been identified. No associated funerary objects are present. Circumstances and date of acquisition unknown. NA-MIS-PR-T-4: The inhumation of one individual was located and subsequently accessioned during a full collections inventory in 1991. No information was located in the original Heard catalogue. Prior consultation in 1995, 2002, and 2013 did not identify cultural affiliation. Consultation in 2002 identified red ochre. Exposure to hazardous substances is unlikely.

Cultural Affiliation

Based on the information available and the results of consultation, cultural affiliation is reasonably identified by the geographical location or acquisition history of the human remains and associated funerary objects described in this notice.

Determinations

The Heard Museum has determined that:

• The human remains described in this notice represent the physical remains of four individuals of Native American ancestry.

• The one object described in this notice is reasonably believed to have been placed intentionally with or near individual human remains at the time of death or later as part of the death rite or ceremony.

• There is a connection between the human remains and associated funerary objects described in this notice and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2025. If competing requests for repatriation are received, the Heard Museum must determine the most appropriate requestor prior to repatriation. Requests for joint repatriation of the human remains and associated funerary objects are considered a single request and not competing requests. The Heard Museum is responsible for sending a copy of this notice to the Indian Tribes and Native Hawaiian organizations identified in this notice and any other consulting parties.

Authority: Native American Graves Protection and Repatriation Act, 25 U.S.C. 3003, and the implementing regulations, 43 CFR 10.10.

Dated: July 16, 2025.
Mariah Soriano,
Acting Manager, National NAGPRA Program.

[FR Doc. 2025-14370 Filed 7-29-25; 8:45 am]

BILLING CODE 4312-52-P